DEPARTMENT OF LABOR

Agency Information Collection Activities; Submission for OMB Review; Comment Request, Department of Labor's Restricted Use Data Access Program, New Collection

AGENCY: Office of the Assistant Secretary for Policy, Chief Evaluation Office, Department of Labor.

ACTION: Notice of information collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed. Currently, the Department of Labor is soliciting comments concerning the collection of data about the Department of Labor's Restricted Use Data Access Program. A copy of the proposed Information Collection Request (ICR) can be obtained by contacting the office listed below in the addressee section of this notice.

DATES: Written comments must be submitted to the office listed in the addressee section below on or before October 23, 2023.

ADDRESSES: You may submit comments by either one of the following methods:

Email: ChiefEvaluationOffice@dol.gov; Mail or Courier: C.J. Krizan, Chief Evaluation Office, OASP, U.S. Department of Labor, Room S-2312, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: C.J. Krizan by email at ChiefEvaluationOffice@dol.gov or by phone at (202) 693-5068.

SUPPLEMENTARY INFORMATION:

I. Background: The Chief Evaluation Office (CEO) of the U.S. Department of Labor (DOL) intends to design and implement the Restricted Use Data Access Program that will safely promote and expand restricted-use DOL data access to facilitate timely, accurate, and informative analysis, research, and program evaluation. In brief, the project involves: (1) developing a Restricted Use Data access program infrastructure, (2) supporting and the onboarding and training of DOL data users for their research, and (3) providing privacy and statistical expertise to evaluate and ensure that research products are protected against disclosure risks and are released in a timely manner.

This Federal Register Notice provides the opportunity to comment on proposed data collection instruments that will be used in developing the Department of Labor Restricted Use Data Access Program.

1. Predominant Purpose Statement. The main application document that applicants fill out for the Restricted Use Data Access Program. The document requests information about the proposed project and why the applicants need access to Department of Labor data.

2. Supporting documents for completing the Predominant Purpose Statement. Supporting documents for the Predominant Purpose Statement, such as examples of successful research or statistical code samples.

3. Biographical Sketch. A biographical sketch form and supporting materials that requests information on the qualifications of the applicant for the Restricted Use Data Access Program and not any personal information.

4. Disclosure Review Forms. Documentation that will be used throughout the Restricted Use Data Access Program to evaluate the disclosure risks of proposed projects and will be available to applicants to ensure transparency of the RUD application process.

II. Desired Focus of Comments: Currently, the Department of Labor is soliciting comments concerning the above data collection for the Department of Labor's Restricted User Data Access Program. DOL is particularly interested in comments that do the following:

○ evaluate whether the proposed collection of information is necessary for the proper performance functions of the agency, including whether the information will have practical utility;

○ evaluate the accuracy of the agency's burden estimate of the proposed information collection, including the validity of the methodology and assumptions;

○ enhance the quality, utility, and clarity of the information to be collected; and

○ minimize the burden of the collection of information on those who are to respond, including through the use of appropriate automated, electronic, mechanical, or other technological collection techniques or other forms of information technology—for example, permitting electronic submissions of responses.

III. Current Actions: At this time, the Department of Labor is requesting clearance for Predominant Purpose Statement, supporting documents for completing the Predominant Purpose Statement, Biographical Sketch, and Disclosure Review Forms.

Type of Review: New information collection request.

OMB Control Number: 1290-0NEW.

Affected Public: Individuals or Households.

Comments submitted in response to this request will be summarized and/or included in the request for Office of Management and Budget approval of the information collection request; they will also become a matter of public record.

Estimated Annual Burden Hours
Type of instrument (form/activity) | Number of respondents | Number of responses per respondent | Total number of responses | Average burden time per response (hours) | Estimated burden hours
Predominant Purpose Statement | ¹ 15 | 1 | 15 | 3 | 75
Supporting documents for the Predominant Purpose Statement | ¹ 15 | 1 | 15 | 2 | 30
Biographical Sketch and supporting documents | ² 15 | 5 | 75 | 1.5 | 112.5
Disclosure Review Forms | ¹ 15 | 1 | 15 | 2 | 30
Total | 75 |  | 135 |  | 267.5
¹ Assumes approximately 15 Restricted Use Data Access Program applications over the calendar year.
² Assumes approximately 5 program participants per application for approximately 15 Restricted Use Data Access Program applications over the calendar year.

Karen Livingston,
Acting Chief Evaluation Officer, U.S. Department of Labor.

[FR Doc. 2023-18234 Filed 8-23-23; 8:45 am]

BILLING CODE 4510-HX-P